FEDERAL COMMUNICATIONS COMMISSION

47 CFR Part 73

[DA 02-3215; MB Docket No. 02-365; RM-10451]

Radio Broadcasting Services; Laramie, WY and Timnath, CO

AGENCY: Federal Communications Commission.

ACTION: Proposed rule.

SUMMARY: This document requests comments on a petition for rule making filed on behalf of Laramie Mountain Broadcasting, L.L.C., licensee of Station KIMX, Laramie, Wyoming, requesting the reallotment of Channel 288C2 to Timnath, Colorado, as that community's first local aural transmission service, and modification of its authorization accordingly. The petitioner's modification proposal complies with the provisions of Section 1.420(i) of the Commission's Rules and therefore, we will not accept competing expressions of interest in the use of Channel 288C2 at Timnath, Colorado. Coordinates used for this proposal are 40-44-31 NL and 105-14-15 WL, representing a restricted transmitter site located 31.9 kilometers (19.8 miles) northwest of Timnath, Colorado. This proposal is located within the protected areas of the Table Mountain Radio Receiving Zone, Boulder County, Colorado, and will require compliance with Section 73.1030(b) of the Commission's Rules.

DATES: Comments must be filed on or before January 30, 2003, and reply comments on or before February 14, 2003.

ADDRESSES: Secretary, Federal Communications Commission, Washington, DC 20554. In addition to filing comments with the FCC, interested parties should serve the petitioner's counsel, as follows: A. Wray Fitch, III, Esq., Gammon & Grange, P.C., 8280 Greensboro Drive, 7th Floor, McLean, VA 22102-3807.

FOR FURTHER INFORMATION CONTACT: Nancy Joyner, Media Bureau, (202) 418-2180.

SUPPLEMENTARY INFORMATION: This is a synopsis of the Commission's Notice of Proposed Rule Making, MB Docket No. 02-365, adopted December 6, 2002, and released December 9, 2002. The full text of this Commission decision is available for inspection and copying during normal business hours in the FCC's Reference Information Center at Portals II, 445 Twelfth Street, SW., Room CY-A257, Washington, DC. The complete text of this decision may also be purchased from the Commission's copy contractor, Qualtex International, Portals II, 445 12th Street, SW., Room CY-B402, Washington, DC 20554, telephone (202) 863-2893, facsimile 202-863-2898, or via e-mail qualtexint@aol.com..

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

On February 12, 2001, the authorization for Station KIMX, Channel 288C3 at Laramie, Wyoming, was amended by a one-step application to specify Channel 288C2.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Colorado, is amended by adding Timnath, Channel 288C2.

3. Section 73.202(b), the Table of FM Allotments under Wyoming, is amended by removing Channel 288C3 at Laramie.

Federal Communications Commission.
John A. Karousos,
Assistant Chief, Audio Division, Media Bureau.

[FR Doc. 03-533 Filed 1-10-03; 8:45 am]

BILLING CODE 6712-01-P